FEDERAL MARITIME COMMISSION

Notice of Agreement Filed

The Commission hereby gives notice of the filing of the following agreement under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 012008.

Title: The 360 Quality Association Agreement.

Parties: NYKLauritzenCool AB and Seatrade Group NV.

Filing Party: Wayne R. Rohde, Esq.; Sher & Blackwell LLP; 1850 M Street, NW., Suite 900; Washington, DC 20036.

Synopsis: The agreement authorizes the parties to implement, supervise, and administer a code of conduct applicable to the handling of specialized reefer cargoes and to implement, manage, exploit and own any such code and any intellectual property rights associated therewith.

By Order of the Federal Maritime Commission.
Dated: August 3, 2007.
Karen V. Gregory,
Assistant Secretary.

[FR Doc. E7-15437 Filed 8-7-07; 8:45 am]

BILLING CODE 6730-01-P